NATIONAL ARCHIVES AND RECORDS ADMINISTRATION

[NARA-2015-038]

Agency Information Collection Activities: Submission for OMB Review; Comment Request

AGENCY: National Archives and Records Administration (NARA).

ACTION: Notice.

SUMMARY: NARA gives public notice that it has submitted to OMB for approval the information collection described in this notice. We invite the public to comment on the proposed information collection pursuant to the Paperwork Reduction Act of 1995.

DATES: Submit any written comments to OMB at the address below on or before June 19, 2015.

ADDRESSES: Send comments to Mr. Nicholas A. Fraser, Desk Officer for NARA, by mail to Office of Management and Budget; New Executive Office Building; Washington, DC 20503; by fax to 202-395-5167, or by email to Nicholas_A._Fraser@omb.eop.gov.

FOR FURTHER INFORMATION CONTACT: Contact Tamee Fechhelm by telephone at 301-837-1694 or by fax at 301-713-7409 with requests for additional information or copies of the proposed information collection and supporting statement.

SUPPLEMENTARY INFORMATION: Pursuant to the Paperwork Reduction Act of 1995 (Pub. L. 104-13), NARA invites the public and other Federal agencies to comment on proposed information collections. NARA published a notice of proposed collection for this information collection on December 24, 2014 (79 FR 77534 and 77535). We received no comments. We have submitted the described information collection to OMB for approval. In response to this notice, comments and suggestions should address one or more of the following points: (a) Whether the proposed information collection is necessary for NARA to properly perform its functions; (b) NARA's estimate of the burden of the proposed information collection and its accuracy; (c) ways NARA could enhance the quality, utility, and clarity of the information it collects; (d) ways NARA could minimize the burden on respondents of collecting the information, including through information technology; and (e) whether this collection affects small businesses. In this notice, NARA solicits comments concerning the following information collection:

Title: National Historical Publications and Records Commission (NHPRC) Grant Program, Budget Form, and Instructions.

OMB number: 3095-0013.

Agency form number: NA Form 17001.

Type of review: Reinstatement of a previously cleared information collection.

Affected public: Nonprofit organizations and institutions, state and local government agencies, and Federally-acknowledged or state-recognized Native American tribes or groups, who apply for and receive NHPRC grants for support of historical documentary editions, archival preservation and planning projects, and other records projects.

Estimated number of respondents: 144 per year submit applications; approximately 45 grantees need to submit revised budgets.

Estimated time per response: 10 hours per application; 5 hours per revised budget.

Frequency of response: On occasion for the application; as needed for revised budget. Currently, the NHPRC considers grant applications 2 times per year. Respondents usually submit no more than one application per year, and, for those who need to submit revised budgets, only one revised budget per year.

Estimated total annual burden hours: 1,665 hours.

Abstract: The NHPRC posts grant announcements to their Web site and to grants.gov (www.grants.gov), where the information will be specific to the grant opportunity named. The basic information collection remains the same. The NA Form 17001 is used by the NHPRC staff, reviewers, and the Commission to determine if the applicant and proposed project are eligible for an NHPRC grant, and whether the proposed project is methodologically sound and suitable for support.

Dated: May 13, 2015.
Swarnali Haldar,
Executive for Information Services/CIO.

[FR Doc. 2015-12211 Filed 5-19-15; 8:45 am]

BILLING CODE 7515-01-P